DEPARTMENT OF COMMERCE

National Oceanic and Atmospheric Administration

Availability of Seats for the Gray's Reef National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Gray's Reef National Marine Sanctuary Advisory Council: conservation, university education, charter/commercial fishing, and citizen-atlarge. Applicants are chosen based upon their particular expertise and experience in relation to the seat for which they are applying; community and professional affiliations; philosophy regarding the protection and management of marine resources; and possibly the length of residence in the area affected by the sanctuary. Applicants who are chosen for the conservation, university education and charter/commercial fishing seats should expect to serve 3-year terms, pursuant to the council's Charter. The applicant chosen for the citizen-at-large seat should expect to serve a 2-year term, pursuant to the council's Charter.

DATES: Applications are due by December 2, 2011.

ADDRESSES: Application kits may be obtained from Becky Shortland, Council Coordinator (becky.shortland@noaa.gov, 10 Ocean Science Circle, Savannah, GA 31411; (912) 598-2381). Completed applications should be sent to the same address.

FOR FURTHER INFORMATION CONTACT: Becky Shortland, Council Coordinator (becky.shortland@noaa.gov, 10 Ocean Science Circle, Savannah, GA 31411; (912) 598-2381.

SUPPLEMENTARY INFORMATION: The sanctuary advisory council was established in August 1999 to provide advice and recommendations on management and protection of the sanctuary. The advisory council, through its members, also serves as liaison to the community regarding sanctuary issues and represents community interests, concerns, and management needs to the sanctuary and NOAA.

Authority: 16 U.S.C. 1431, et seq.

(Federal Domestic Assistance Catalog Number 11.429 Marine Sanctuary Program)

Dated: October 27, 2011.
Daniel J. Basta,
Director, Office of National Marine Sanctuaries, National Ocean Service, National Oceanic and Atmospheric Administration.

[FR Doc. 2011-28481 Filed 11-3-11; 8:45 am]

BILLING CODE 3510-NK-M